DEPARTMENT OF EDUCATION

Office of Elementary and Secondary Education; Territories and Freely Associated States Educational Grant Program; CFDA No. 84.256A

AGENCY: Department of Education.

ACTION: Correction; Notice inviting applications for new awards for fiscal year (FY) 2009.

SUMMARY: We correct the Applications Available date in the notice published on March 31, 2009 (74 FR 14533-14538).

SUPPLEMENTARY INFORMATION: On March 31, 2009, we published in the Federal Register (74 FR 14533) a notice inviting applications for new awards for fiscal year (FY) 2009 for the Territories and Freely Associated States Educational Grant Program. The Applications Available date (as published on pages 14533 and 14535) is corrected to April 10, 2009.

FOR FURTHER INFORMATION CONTACT: Donna Sabis-Burns, U.S. Department of Education, 400 Maryland Avenue, SW., Room 3W219, Washington, DC 20202-6135. Telephone: (202) 260-1425.

If you use a telecommunications device for the deaf (TDD), call the Federal Relay Service (FRS), toll-free, at 1-800-877-8339.

Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Joseph C. Conaty, Director, Academic Improvement and Teacher Quality Programs for the Office of Elementary and Secondary Education to perform the functions of the Assistant Secretary for Elementary and Secondary Education.

Dated: April 7, 2009.
Joseph C. Conaty,
Director, Academic Improvement and Teacher Quality Programs.

[FR Doc. E9-8251 Filed 4-9-09; 8:45 am]

BILLING CODE 4000-01-P